DEPARTMENT OF THE INTERIOR

Fish and Wildlife Service

Receipt of an Application and Availability of an Environmental Assessment for an Incidental Take Permit for Construction of a School and Adjacent Roads in Volusia County, Florida

AGENCY: Fish and Wildlife Service, Interior.

ACTION: Notice.

SUMMARY: The Public Works Department of Volusia County and the Volusia County School Board (Applicants) request incidental take permits (ITP) each with 5-year term, pursuant to section 10(a)(1)(B) of the Endangered Species Act of 1973, as amended (Act). The Applicants jointly prepared a single Habitat Conservation Plan (HCP) identifying anticipated impacts to the Florida scrub-jay (Aphelocoma coerulescens) (scrub-jay) associated with road construction (Public Works Department) and construction of a new high school and its supporting infrastructure (School Board) within sections 10 and 15, Township 18 South, Range 30 East, Volusia County, Florida.

The Applicants' HCP describes the mitigation and minimization measures proposed to address the effects of road and school construction on the Florida scrub-jay. These measures are outlined in the SUPPLEMENTARY INFORMATION section below. We announce the availability of the ITP applications and HCP and an environmental assessment.

DATES: Written comments on the ITP applications, HCP, and environmental assessment should be sent to the Service's Regional Office (see ADDRESSES) and should be received on or before April 14, 2006.

ADDRESSES: Persons wishing to review the applications, HCP, and environmental assessment may obtain a copy by writing the Service's Southeast Regional Office, Atlanta, Georgia. Please reference permit numbers TE107069-0 and/or TE107070-0 in such requests. Documents will also be available for public inspection by appointment during normal business hours at the Regional Office, 1875 Century Boulevard, Suite 200, Atlanta, Georgia 30345 (Attn: Endangered Species Permits), or Field Supervisor, U.S. Fish and Wildlife Service, 6620 Southpoint Drive South, Suite 310, Jacksonville, Florida 32216-0912.

FOR FURTHER INFORMATION CONTACT: Mr. David Dell, Regional HCP Coordinator, (see ADDRESSES above), telephone: 404/679-7313, facsimile: 404/679-7081; or Mr. Mike Jennings, Fish and Wildlife Biologist, Jacksonville Field Office, Jacksonville, Florida (see ADDRESSES above), telephone: 904/232-2580.

SUPPLEMENTARY INFORMATION: If you wish to comment, you may submit comments by any one of several methods. Please reference permit numbers TE107069-0 and/or TE107070-0 in such comments. You may mail comments to the Service's Regional Office (see ADDRESSES). You may also comment via the Internet to david_dell@fws.gov. Please submit comments over the internet as an ASCII file avoiding the use of special characters and any form of encryption. Please also include your name and return address in your internet message. If you do not receive a confirmation from us that we have received your internet message, contact us directly at either telephone number listed above (see FOR FURTHER INFORMATION CONTACT). Finally, you may hand deliver comments to either Service office listed above (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

The Florida scrub-jay (scrub-jay) is geographically isolated from other species of scrub-jays found in Mexico and the western United States. The scrub-jay is found exclusively in peninsular Florida and is restricted to xeric uplands (predominately in oak-dominated scrub). Increasing urban and agricultural development has resulted in habitat loss and fragmentation that has adversely affected the distribution and numbers of scrub-jays. The total estimated population is between 7,000 and 11,000 individuals.

The decline in the number and distribution of scrub-jays in east-central Florida has been exacerbated by agricultural land conversions and urban growth in the past 50 years. Much of the historic commercial and residential development has occurred on the dry soils that previously supported scrub-jay habitat. Based on existing soils data, much of the current scrub-jay habitat of east-central Florida occurs in what was once the coastal sand dunes created over the millennia due to rising and falling oceans. These ancient dunes are most prevalent in western Volusia County and much of Marion County. Relict dunes along the east-central Florida Atlantic coast also provide some scrub-jay habitat. Much of this area of Florida was settled early because few wetlands restricted urban and agricultural development. Due to the effects of urban and agricultural development over the past 100 years, much of the remaining scrub-jay habitat is now relatively small and isolated. What remains is largely degraded due to the exclusion of fire that is needed to maintain xeric uplands in conditions suitable for scrub-jays.

The Applicants have not proposed to minimize impacts to scrub-jays for a variety of reasons. At the school site, alternative site plans were considered, but none substantially reduced impacts to scrub-jays. Avoidance of impacts on the school site could not be achieved because of geological considerations and local requirements for stormwater retention, parking, and safety considerations regarding the juxtaposition of roads and school property. Alternative road alignments were considered, but due to the sighting requirements for the school, alternative alignments that minimized impacts to occupied scrub-jay habitat were not practicable.

To mitigate the effects of take, the Applicants propose to utilize scrub-jay “credits” available pursuant to a previous Memorandum of Understanding (MOU) between the Service and Applicants. The MOU established a scrub-jay conservation area at the 357-acre Lyonia Preserve in Volusia County and required specific long-term land management criteria be met for the benefit of scrub-jays and other scrub endemics. About 60 scrub-jay credits are currently available for use by the Applicants under the terms of the MOU. As defined by the MOU, a “credit” corresponds to acres of scrub-jay habitat. Two “credits” of mitigation at Lyonia Preserve are required to mitigate each acre of proposed impact. Construction of the proposed roads will require use of about 11.5 credits, while school construction will require about 13.4 credits.

These projects were combined under one HCP because construction and operation of the completed school would require that new roads be built for access. Separate permit applications were submitted because two different local authorities would be involved in carrying out the road and school projects. Road construction would destroy about 5.7 acres of occupied scrub-jay habitat, while construction of the school will eliminate about 6.7 acres of occupied scrub-jay habitat. Combined, these two projects would be expected to result in the take of three scrub-jay families over a requested permit term of five years.

The Service has made a preliminary determination that issuance of the requested ITP is not a major Federal action significantly affecting the quality of the human environment within the meaning of Section 102(2)(C) of National Environmental Policy Act. This preliminary information may be revised due to public comment received in response to this notice and is based on information contained in the EA and HCP.

The Service will evaluate the HCP and comments submitted thereon to determine whether the application meets the issuance criteria requirements of section 10(a)(1)(B) of the Act (16 U.S.C. 1531 et seq.). By conducting an intra-Service section 7 consultation the Service will also evaluate whether issuance of the section 10(a)(1)(B) ITP would comply with section 7 of the Act. The results of this consultation, in combination with the above findings, will be used in the final analysis to determine whether or not to issue the ITPs. This notice is provided pursuant to Section 10 of the Endangered Species Act and National Environmental Policy Act regulations (40 CFR 1506.6).

Dated: January 27, 2006.
Cynthia K. Dohner
Acting Regional Director, Southeast Region.

[FR Doc. E6-1949 Filed 2-10-06; 8:45 am]

BILLING CODE 4310-55-P